NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number.

1. Type of submission, new, revision, or extension: New collection.

2. The title of the information collection: Requests to Non-Agreement States for Information, as authorized by section 274(a) of the Atomic Energy Act.

3. The form number if applicable: Not applicable.

4. How often the collection is required: One-time or as needed.

5. Who will be required or asked to report: The 18 States that have not signed section 274(b) Agreements with NRC (Non-Agreement States).

6. An estimate of the number of annual responses: NRC expects to receive no more than 18 responses per occasional request or approximately 18 responses per year.

7. The estimated number of annual respondents: 18 Non-Agreement States.

8. An estimate of the total number of hours needed annually to complete the requirement or request: 135 hours (18 responses per year × 7.5 hours) per response.

9. An indication of whether section 3507(d), Pub. L. 104-13 applies: Not applicable.

10. Abstract: Occasionally, requests will be made of the Non-Agreement States for information similar to that requested from the Agreement States. Requests will be made on a one-time or as-needed basis, e.g., to respond to a specific incident, to gather information on licensing and inspection practices and other technical statistical information. These information requests will primarily refer to naturally occurring and accelerator-produced radioactive materials which may be subject to State regulations since they do not come under the purview of the Atomic Energy Act, as amended. The reason for requesting such information is that the information can assist the Commission in its considerations and decisions involving Atomic Energy Act materials programs in an effort to make the national nuclear materials programs more uniform and consistent.

A copy of the final supporting statement may be viewed free of charge at the NRC Public Document Room, One White Flint North, 11555 Rockville Pike, Room O-1 F21, Rockville, MD 20852. OMB clearance requests are available at the NRC worldwide web site: http://www.nrc.gov/public-involve/doc-comment/omb/index.html. The document will be available on the NRC home page site for 60 days after the signature date of this notice.

Comments and questions should be directed to the OMB reviewer listed below by April 9, 2003. Comments received after this date will be considered if it is practical to do so, but assurance of consideration cannot be given to comments received after this date.

Bryon Allen, Office of Information and Regulatory Affairs (3150-XXXX), NEOB-10202, Office of Management and Budget, Washington, DC 20503.

Comments can also be submitted by telephone at (202) 395-3087.

The NRC Clearance Officer is Brenda Jo Shelton, (301) 415-7233.

Dated in Rockville, Maryland, this 3rd day of March, 2003.
For the Nuclear Regulatory Commission.
Brenda Jo Shelton,
NRC Clearance Officer, Office of the Chief Information Officer.

[FR Doc. 03-5605 Filed 3-7-03; 8:45 am]

BILLING CODE 7590-01-P